DEPARTMENT OF ENERGY

Federal Energy Regulatory Commission

[Docket No. AD06-13-000]

Hydroelectric Infrastructure Conference; Notice of Technical Conference

September 7, 2006.

A Commissioner-led technical conference will be held on December 6, 2006, from 1 p.m. to 5 p.m. (EST). The conference will be held in the Commission Meeting Room on the second floor of the offices of the Federal Energy Regulatory Commission, 888 First Street, NE., Washington, DC. All interested persons may attend; there is no fee or registration.

The purpose of the conference is to discuss the status of ocean-based hydroelectric technologies (wave, tidal, and current) and explore the environmental, financial, and regulatory issues pertaining to the development of these new technologies.

Transcripts of the conference will be immediately available from Ace Reporting Company (202-347-3700 or 1-800-336-6646) for a fee. They will be available to the public on the Commission's eLibrary system seven calendar days after FERC receives the transcript. A free Webcast of this event will be available through http://www.ferc.gov. Anyone with Internet access who desires to view this event can do so by navigating to www.ferc.gov's Calendar of Events and locating this event in the Calendar. The event will contain a link to its Webcast. The Capitol Connection provides technical support for the free Webcasts. It also offers access to this event via television in the DC area and via phone bridge for a fee. If you have any questions, visit http://www.CapitolConnection.gmu.edu or contact Danelle Perkowski or David Reininger at 703-993-3100.

FERC conferences are accessible under section 508 of the Rehabilitation Act of 1973. For accessibility accommodations please send an e-mail to accessibility@ferc.gov or call toll free 866-208-3372 (voice) or 202-502-8659 (TTY), or send a FAX to 202-208-2106 with the required accommodations.

Additional details regarding the agenda for this conference will be included in a subsequent notice.

For more information about the conference, please contact Tim Welch at 202-502-8760 (timothy.welch@ferc.gov) or Kristen Murphy at 202-502-6236 (kristen.murphy@ferc.gov).

Magalie R. Salas,
Secretary.

[FR Doc. E6-15182 Filed 9-12-06; 8:45 am]

BILLING CODE 6717-01-P